NUCLEAR REGULATORY COMMISSION

[Docket Nos. 50-325 and 50-324]

Carolina Power & Light Company; Notice of Issuance of Amendments to Facility Operating Licenses

The U.S. Nuclear Regulatory Commission (Commission) has issued Amendment Nos. 222 and 247 to Facility Operating License Nos. DPR-71 and DPR-62, respectively, to Carolina Power & Light Company (CP&L, the licensee), which revised the Facility Operating Licenses (FOLs) and Technical Specifications (TS) for operation of the Brunswick Steam Electric Plant (BSEP), Units 1 and 2, located in Brunswick County, North Carolina. The amendments are effective as of the date of issuance.

The amendments modified the FOLs and TS to allow an increase in the licensed power from 2558 megawatts thermal (MWt) to 2923 MWt. This change represents an increase of approximately 15 percent above the current licensed power for each unit and is considered an extended power uprate.

The application for the amendments complies with the standards and requirements of the Atomic Energy Act of 1954, as amended (the Act), and the Commission's rules and regulations. The Commission has made appropriate findings as required by the Act and the Commission's rules and regulations in 10 CFR Chapter I, which are set forth in the license amendments.

Notice of Consideration of Issuance of Amendments to Facility Operating Licenses and Opportunity for a Hearing in connection with this action was published in the Federal Register on February 12, 2002 (67 FR 36927). No request for a hearing or petition for leave to intervene was filed following this notice.

The Commission has prepared an Environmental Assessment related to the action and has determined not to prepare an environmental impact statement. Based upon the environmental assessment, the Commission has concluded that the issuance of the amendment will not have a significant effect on the quality of the human environment (67 FR 36040, May 22, 2002).

For further details with respect to the action see (1) the application for amendments dated August 9, 2001, as supplemented October 17, November 1, 7, 28, and 30, December 4, 10, 17 (2 letters), and 20, 2001, January 24, February 1, 4, 13, 14, 21 (2 letters), and 25 (3 letters), March 4, 5, 7, 12, 14 (2 letters), 20, 22, and 25, and April 26 and 29, 2002, (2) Amendment Nos. 222 and 247 to License Nos. DPR-71 and DPR-62, respectively, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS, should contact the NRC Public Document Room Reference staff by telephone at 1-800-397-4209, 301-415-4737, or by email to pdr@nrc.gov.

Dated at Rockville, Maryland, this 31st day of May 2002.
For the Nuclear Regulatory Commission.
Brenda L. Mozafari,
Sr. Project Manager, Section 2, Project Directorate II, Division of Licensing Project Management, Office of Nuclear Reactor Regulation.

[FR Doc. 02-14340 Filed 6-6-02; 8:45 am]

BILLING CODE 7590-01-P